FEDERAL COMMUNICATIONS COMMISSION

[MM 99-339; DA 01-325]

Implementation of Video Description of Video Programming

AGENCY: Federal Communications Commission.

ACTION: Notice.

SUMMARY: The Federal Communications Commission seeks comment on The Weather Channel's request for clarification regarding the aural tone requirements of the Commission's video description rules. These rules require that, if a broadcast station or multichannel video programming distributor provides emergency information through a crawl or a scroll, it must accompany that information with an aural tone. The Weather Channel seeks clarification that it is in compliance with the rules when it provides an aural tone prior to the first time it provides a particular crawl or scroll; in other words, The Weather Channel seeks clarification that it need not accompany each otherwise identical crawl or scroll with an aural tone. In the alternative, it seeks an exemption from the rules.

DATES: Comments must be filed on or before February 27, 2001; reply comments must be filed on or before March 9, 2001.

ADDRESSES: Federal Communications Commission, 445 Twelfth Street, SW., Washington DC, 20554.

FOR FURTHER INFORMATION CONTACT: Eric Bash, Policy and Rules Division, Mass Media Bureau, at (202) 418-2130.

SUPPLEMENTARY INFORMATION: This information is part of the record in MM Docket No. 99-339. Copies of the filing and other pleadings are also available for purchase from: ITS Inc. 1231 20th Street, NW., Washington, DC, 20036, www.itsdocs.com, (202) 837-3800, (202) 837-3805 (fax), (202) 484-8831 (TTY). This document is available to individuals with disabilities requiring accessible formats (electronic ASCII text, Braille, large print, and audiocassette) by contacting Brian Millin at (202) 418-7426 (Voice), (202) 418-7365 (TTY), or by sending an email to access@fcc.gov. This document is available to individuals with disabilities requiring accessible formats (electronic ASCII text, Braille, large print, and audiocassette) by contacting Brian Millin at (202) 418-7426 (Voice), (202) 418-7365 (TTY), or by sending an email to access@fcc.gov.

Federal Communications Commission.
Roy J. Stewart,
Chief, Mass Media Bureau.

[FR Doc. 01-3835 Filed 2-14-01; 8:45 am]

BILLING CODE 6712-01-P